NUCLEAR REGULATORY COMMISSION

[Docket Nos. 50-237 and 50-249; CEQ EAXX-429-00-000-1770870609; NRC-2025-1963]

Constellation Energy Generation LLC.; Dresden Nuclear Power Station, Units 2 and 3; Environmental Assessment and Finding of No Significant Impact

AGENCY: Nuclear Regulatory Commission.

ACTION: Notice; issuance.

SUMMARY: The U.S. Nuclear Regulatory Commission (NRC) is considering issuance of exemptions in response to the January 31, 2025, request, as supplemented on January 20, 2026, from Constellation Energy Generation LLC (the licensee) related to Dresden Nuclear Power Station (DNPS), Units 2 and 3, located in Grundy County, Illinois. The exemptions would allow the licensee to withdraw a small portion of the funds from the DNPS, Units 2 and 3, nuclear decommissioning trust funds (DTFs) to facilitate the prompt disposal of certain retired major radioactive components (MRCs), and to demolish and dispose of the mausoleum currently used to store those MRCs. The NRC staff is issuing an environmental assessment (EA) and finding of no significant impact (FONSI) associated with the proposed exemptions.

DATES: The EA and FONSI referenced in this document are available on February 17, 2026.

ADDRESSES: Please refer to Docket ID NRC-2025-1963 when contacting the NRC about the availability of information regarding this document. You may obtain publicly available information related to this document using any of the following methods:

• Federal Rulemaking Website: Go to https://www.regulations.gov and search for Docket ID NRC-2025-1963. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Surinder Arora, Office of Nuclear Reactor Regulation, U.S. Nuclear Regulatory Commission, Washington, DC 20555-0001; telephone: 301-415-1421; email: Surinder.Arora@nrc.gov.

SUPPLEMENTARY INFORMATION:

I. Introduction

The NRC is considering issuance of exemptions from the requirements in paragraphs 50.82(a)(8)(i)(A), and 50.82(a)(8)(ii), and 50.75(h)(1)(iv) of title 10 of the Code of Federal Regulations (10 CFR) to the licensee for Renewed Facility Operating License Nos. DPR-19 and DPR-25 for DNPS, Units 2 and 3, respectively, located in Grundy County, Illinois. By letter dated January 31, 2025 (ADAMS Accession No. ML25031A350), as supplemented by letter dated January 20, 2026 (ADAMS Accession No. ML26020A208), the licensee requested exemptions to allow the licensee to withdraw funds from the DNPS, Units 2 and 3, DTFs, not to exceed $20 million per unit, to facilitate the prompt disposal of certain retired MRCs. Specifically, the licensee is seeking to use funds from the DTF to dispose of steam dryers that were removed from DNPS and to demolish and dispose of the mausoleum currently used to store those MRCs.

In accordance with 10 CFR 51.21 and 10 CFR 51.30, the NRC prepared the following EA that analyzes the environmental impacts of the proposed action. Based on the results of this EA, which is provided in section II of this document, and in accordance with 10 CFR 51.31(a), the NRC has determined not to prepare an environmental impact statement for the proposed action and is issuing a FONSI.

II. Environmental Assessment

Description of the Proposed Action

The proposed action would partially exempt the licensee from the requirements set forth in 10 CFR 50.82(a)(8)(i)(A), 10 CFR 50.82(a)(8)(ii), and 10 CFR 50.75(h)(1)(iv). Specifically, contrary to 10 CFR 50.82(a)(8)(i)(A) and 10 CFR 50.75(h)(1)(iv), the proposed action would allow the licensee to withdraw funds from the DNPS, Units 2 and 3 DTFs for disposal activities that are not consistent with the definition of decommissioning in 10 CFR 50.2 because they would not be related to removing a facility or site from service; instead, the disposal activities would be performed prior to DNPS, Units 2 and 3, permanently ceasing operations. Additionally, the proposed action would allow the licensee to withdraw funds from the DNPS, Units 2 and 3 DTFs contrary to the timing requirements in 10 CFR 50.82(a)(8)(ii). The proposed action is in accordance with the licensee's application dated January 31, 2025, as supplemented on January 20, 2026. The NRC's determination of whether to approve the proposed action will be documented separately from this assessment of the environmental impacts of the proposed action.

Need for the Proposed Action

As required by 10 CFR 50.82(a)(8)(i)(A), DTFs may be used by licensees if, in part, the withdrawals are for legitimate decommissioning activity expenses, consistent with the definition of decommissioning in 10 CFR 50.2. This definition addresses removing a facility or site from service and reducing residual radioactivity and does not include activities associated with the disposal of MRCs and demolition and disposal of the mausoleum during plant operations. The regulation at 10 CFR 50.75(h)(1)(iv) similarly restricts the use of decommissioning trust fund disbursements (other than for ordinary administrative costs and other incidental expenses of the fund in connection with the operation of the fund) to decommissioning expenses until final radiological decommissioning is completed. The regulation in 10 CFR 50.82(a)(8)(ii) discusses timing requirements associated with DTF withdrawals, allowing three percent of the generic amount specified in 10 CFR 50.75 to be used for decommissioning planning and restricting further withdrawals until licensees have submitted the certifications required under 10 CFR 50.82(a)(1) regarding permanent cessation of operations and the post-shutdown decommissioning activities report. Therefore, exemptions from 10 CFR 50.82(a)(8)(i)(A), 10 CFR 50.82(a)(8)(ii), and 10 CFR 50.75(h)(1)(iv) are needed to allow the licensee to use funds from the DTFs for the disposal of MRCs and demolition and disposal of the mausoleum during plant operations.

In its submittal, the licensee stated that due to limited long-term onsite storage facility capacity at DNPS, it is desirable to dispose of the specified MRCs while plant operations are ongoing, rather than waiting until the permanent cessation of operations to dispose of them. Additionally, the licensee stated that the disposal of these MRCs would be considered a legitimate decommissioning activity for which DTF funds may be used once DNPS, Units 2 and 3, have permanently ceased operations and the timing requirements of 10 CFR 50.82(a)(8)(ii) have been met; therefore, the exemption request is essentially seeking an acceleration of otherwise permissible DTF withdrawals. This categorization is based on the structure's radiological contamination and anticipated exposures during demolition, which aligns with the regulatory definition of legitimate decommissioning activities under 10 CFR 50.82(a)(8). The licensee has not included these costs as site restoration or other non-decommissioning expenses. In summary, by letter dated January 31, 2025, the licensee requested exemptions to allow the licensee to withdraw a small portion of the funds from the DNPS, Units 2 and 3, DTFs to facilitate the prompt (i.e., during plant operations) disposal of certain retired MRCs and demolition and disposal of the mausoleum, that would otherwise be allowed during decommissioning following the permanent cessation of plant operations.

Environmental Impacts of the Proposed Action

The proposed action involves exemptions from regulatory requirements that are of a financial nature and that do not have an impact on the environment. The proposed action does not introduce new operational activities, and all the current operational activities have already been subjected to environmental review. Additionally, before the NRC could approve the proposed action, it would have to conclude that there is reasonable assurance that funds will be available for the decommissioning process as well as for the prompt disposal of certain retired MRCs and disposal and demolition of the mausoleum. Therefore, there would be no decrease in safety associated with the use of the DTFs to also fund the prompt disposal of certain retired MRCs and demolition and disposal of the mausoleum. Section 50.75 of 10 CFR requires a licensee to certify that financial assurance has been provided in the required amount, to adjust that amount annually, and to cover that amount. Since the proposed exemptions would allow the licensee to use funds from the DNPS, Units 2 and 3, DTFs that are in excess of those required for the decommissioning process, the adequacy of the funds dedicated to the decommissioning process would not be affected by the exemptions. Therefore, there is reasonable assurance that there would be no environmental impact due to lack of adequate funding for the decommissioning process.

The proposed action would also not significantly increase the probability or consequences of radiological accidents. The proposed action has no direct radiological impacts. There would be no change to the types or amounts of radiological effluents that may be released; therefore, there would be no change in occupational or public radiation exposure from the proposed action. There are no materials or chemicals introduced into the plant that could affect the characteristics or types of effluents released offsite. In addition, the method of operation of waste processing systems would not be affected by the exemptions. The proposed action would not result in changes to the design basis requirements of structures, systems, and components (SSCs) that function to limit or monitor the release of effluents. All the SSCs associated with limiting the release of effluents would continue to be available to perform their functions. Therefore, there are no significant radiological environmental impacts associated with the proposed action.

With regard to potential non-radiological impacts, the proposed action would have no direct impacts on land use or water resources, including terrestrial and aquatic biota, as it involves no new construction or modification of plant operational systems other than activities bounded by the current licensing basis. In addition, there would be no noticeable effect on socioeconomic conditions in the region, air quality impacts, and no impacts to historic and cultural resources from the proposed action. Therefore, there are no significant environmental impacts associated with the proposed action.

Accordingly, the NRC concludes that there are no significant environmental impacts associated with the proposed action.

Environmental Impacts of the Alternatives to the Proposed Action

As an alternative to the proposed action, the NRC staff considered denial of the proposed action (i.e., the “no-action” alternative). Denial of the proposed action would result in the licensee either (1) postponing the subject activities until the permanent cessation of operations, or (2) disposing of certain retired MRCs and demolishing the mausoleum using funds other than those in the DTFs, which would have no change in environmental impacts resulting from use of DTF funds, or (3) building a new long-term onsite storage facility at DNPS for the retired MRCs and the mausoleum, which would have environmental impacts greater than the requested exemptions. Therefore, the alternative action would have similar or additional environmental impacts as compared to the proposed action.

Alternative Use of Resources

There are no unresolved conflicts concerning alternative uses of available resources under the proposed action.

Agencies and Persons Consulted

No additional agencies or persons were consulted regarding the environmental impact of the proposed action.

III. Finding of No Significant Impact

The requested exemptions from 10 CFR 50.82(a)(8)(i) and (ii) would allow the licensee to withdraw a small portion of the funds from the DNPS, Units 2 and 3, DTFs to facilitate the prompt disposal of certain retired MRCs, as well as the demolition and disposal of the mausoleum housing the MRCs. The proposed action would not significantly affect plant safety, would not have a significant adverse effect on the probability of an accident occurring, and would not have any significant radiological or non-radiological impacts. The proposed action involves exemptions from requirements that are of a financial nature and would not have an impact on the human environment. Consistent with 10 CFR 51.21, the NRC conducted an EA for the proposed action, and this FONSI incorporates by reference the EA included in section II of this document. Therefore, the NRC concludes that the proposed action will not have significant effects on the quality of the human environment. Accordingly, the NRC has determined not to prepare an environmental impact statement for the proposed action.

Other than the licensee's letter dated January 31, 2025, and the supplement letter dated January 20, 2026, there are no other environmental documents associated with this review.

Previous considerations regarding the environmental impacts of operating DNPS, Units 2 and 3 are described in (1) NUREG-1437, “Generic Environmental Impact Statement for License Renewal of Nuclear Plants, Supplement 17, Second Renewal, Regarding Subsequent License Renewal for Dresden Nuclear Power Station, Units 2 and 3—Final Report,” dated September 2025 (ADAMS Accession No. ML25233A275), (2) NUREG-1437, Supplement 17, “Generic Environmental Impact Statement for License Renewal of Nuclear Plants Regarding Dresden Nuclear Power Station,” dated June 2004 (ADAMS Accession No. ML041890266), and (3) Final Environmental Statement Related to Operation of Dresden Nuclear Power Station, Units 2 and 3, Commonwealth Edison Co., November 1973 (ADAMS Package Accession No. ML030550544).

Dated: February 12, 2026.
For the Nuclear Regulatory Commission.
Surinder Arora,
Project Manager, Plant Licensing Branch III, Division of Operating Reactor Licensing, Office of Nuclear Reactor Regulation.

[FR Doc. 2026-03081 Filed 2-13-26; 8:45 am]

BILLING CODE 7590-01-P